DEPARTMENT OF EDUCATION

Privacy Act of 1974; System of Records

AGENCY: Office of the Inspector General, U.S. Department of Education.

ACTION: Notice of an altered system of records.

SUMMARY: In accordance with the Privacy Act of 1974, as amended (Privacy Act), the Department of Education (Department) publishes this notice proposing to revise the system of records notice for the Hotline Complaint Files of the Inspector General (18-10-04), 64 FR 30157-59 (June 4, 1999). The Department proposes to amend this system of records notice by: (1) Adding that a purpose of the system is to report on complaints and allegations related to American Recovery and Reinvestment Act of 2009 (ARRA) funds to the Recovery Accountability and Transparency Board (RATB) as established by the ARRA (Pub. L. 111-5); (2) adding a new routine use to allow the disclosure of ARRA-related complaints and allegations to the RATB; (3) adding a new routine use to allow for disclosure of information in connection with response and remedial efforts in the event of a data breach in accordance with Office of Management and Budget (OMB) requirements in M-07-16 (May 22, 2007); (4) revising the routine use “Disclosure to Public and Private Sources in Connection with the Higher Education Act of 1965, as amended (HEA)” to allow the disclosure of information to an educational institution or a school that is or was a party to an agreement with the Secretary of Education pursuant to the HEA; and (5) updating the address of the System Manager.

DATES: The Department seeks comments on the proposed, new routine uses of the information in the altered system of records described in this notice, in accordance with the requirements of the Privacy Act. We must receive your comments on or before August 11, 2010.

The Department filed a report describing the altered system of records covered by this notice with the Chair of the Senate Committee on Homeland Security and Governmental Affairs, the Chair of the House Committee on Oversight and Government Reform, and the Administrator of the Office of Information and Regulatory Affairs, OMB on July 7, 2010. This altered system of records will become effective at the later date of—(1) The expiration of the 40-day period for OMB review on August 16, 2010 unless OMB waives 10 days of its 40-day review period in which case on August 6, 2010, or (2) August 11, 2010, unless the system of records needs to be changed as a result of public comment or OMB review. The Department will publish any changes to the routine uses that result from public comment or OMB review of this notice.

ADDRESSES: Address all comments about the proposed routine uses to this altered system of records to William Hamel, Assistant Inspector General for Investigations, Office of Inspector General, U.S. Department of Education, 400 Maryland Avenue, SW., room 8093, PCP building, Washington, DC 20202-1510. If you prefer to send comments by e-mail, use the following address: comments@ed.gov.

You must include the term “Hotline Complaint Files” in the subject line of your electronic message.

During and after the comment period, you may inspect all public comments about this notice at the U.S. Department of Education, PCP Building, room 8166, 500 12th Street, SW., Washington, DC 20202-0028, between the hours of 8:00 a.m. and 4:30 p.m., Eastern time, Monday through Friday of each week except Federal holidays.

Assistance to Individuals With Disabilities in Reviewing the Rulemaking Record

On request, we will supply an appropriate accommodation or auxiliary aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Shelley Shepherd, Assistant Counsel to the Inspector General, 400 Maryland Avenue, SW., room 8166, PCP building, Washington, DC 20202-1510. Telephone: (202) 245-7077. If you use a telecommunications device for the deaf (TDD), you can call the Federal Relay Service (FRS) at 1-800-877-8339.

SUPPLEMENTARY INFORMATION:

Introduction

The Privacy Act (5 U.S.C. 552a) requires the Department to publish in the Federal Register this notice of an altered system of records (5 U.S.C. 552a(e)(4) and (11)). The Department's regulations implementing the Privacy Act are contained in the Code of Federal Regulations (CFR) in 34 CFR part 5b.

The Privacy Act applies to information about an individual that contains individually identifiable information that is retrieved by a unique identifier associated with each individual, such as a name or social security number. The information about each individual is called a “record,” and the system, whether manual or computer-based, is called a “system of records.”

The Privacy Act requires each agency to publish a notice of a system of records in the Federal Register and to prepare a report to OMB, whenever the agency publishes a new system of records or makes a significant change to an established system of records. Each agency is also required to send copies of the report to the Chair of the Senate Committee on Homeland Security and Governmental Affairs and the Chair of the House Committee on Oversight and Government Reform. The report is intended to permit an evaluation of the probable or potential effect of the proposal on the privacy rights of individuals.

Accessible Format: Individuals with disabilities can obtain this document in an accessible format (e.g., braille, large print, audiotape, or computer diskette) on request to the contact person listed under FOR FURTHER INFORMATION CONTACT.

Electronic Access to This Document

You can view this document, as well as all other documents of this Department published in the Federal Register, in text or Adobe Portable Document Format (PDF), on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: July 7, 2010.
Kathleen S. Tighe,
Inspector General.

For the reasons discussed in the preamble, the Inspector General of the U.S. Department of Education publishes a notice of an altered system of records. The following amendments are made to the Notice of an Altered System of Records published in the Federal Register on June 4, 1999 (64 FR 30157-30159):

1. On page 30157, 3rd column, under the heading “PURPOSES”, the paragraph is revised to read as follows:

PURPOSES:

Pursuant to the Inspector General Act, this system is maintained for purposes of: (1) Maintaining a record of complaints and allegations received concerning Department of Education programs and operations and a record concerning the disposition of those complaints and allegations; and (2) reporting on American Recovery and Reinvestment Act of 2009 related complaints and allegations to the Recovery Accountability and Transparency Board.

2. On page 30158, 1st and 2nd columns, the paragraph labeled “(4) Disclosure to Public and Private Sources in Connection with the Higher Education Act of 1965, as amended (HEA)”, is revised to read as follows:

“(4) Disclosure to Public and Private Sources in Connection with the Higher Education Act of 1965, as amended (HEA). The Department may disclose information from this system of records as a routine use to facilitate compliance with program requirements to any accrediting agency that is or was recognized by the Secretary of Education pursuant to the HEA; to any educational institution or school that is or was a party to any agreement with the Secretary of Education pursuant to the HEA; to any guaranty agency that is or was a party to an agreement with the Secretary of Education pursuant to the HEA; or to any agency that is or was charged with licensing or legally authorizing the operation of any educational institution or school that was eligible, is currently eligible, or may become eligible to participate in any program of Federal student assistance authorized by the HEA.

3. On page 30158, 2nd column, after the paragraph labeled “(6) Congressional Disclosure”, add two new paragraphs that read as follows:

(7) Disclosure to the Recovery Accountability and Transparency Board (RATB). The Department may disclose records as a routine use to the RATB for purposes of coordinating and conducting oversight of American Recovery and Reinvestment Act of 2009 funds to prevent fraud, waste, and abuse.

(8) Disclosure in the Course of Responding to Breach of Data. The Department may disclose records from this system to appropriate agencies, entities, and persons when (a) The Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

4. On page 30158, 3rd column, under the heading “SYSTEM MANAGER AND ADDRESS”, the paragraph is revised to read as follows:

SYSTEM MANAGER AND ADDRESS:

Assistant Inspector General for Investigations, Office of Inspector General, U.S. Department of Education, 400 Maryland Avenue, SW., room 8093, PCP building, Washington, DC 20202-1510.

[FR Doc. 2010-16926 Filed 7-9-10; 8:45 am]

BILLING CODE 4000-01-P